DEPARTMENT OF HEALTH AND HUMAN SERVICES

Food and Drug Administration

[Docket No. FDA-2017-N-0001]

Advisory Committees; Filing of Closed Meeting Reports

AGENCY: Food and Drug Administration, HHS.

ACTION: Notice.

SUMMARY: The Food and Drug Administration (FDA) is announcing that, as required by the Federal Advisory Committee Act, the Agency has filed with the Library of Congress the annual reports of those FDA advisory committees that held closed meetings during fiscal year 2016.

ADDRESSES: Copies are available at the Dockets Management Staff (HFA-305), Food and Drug Administration, 5630 Fishers Lane, Rm. 1061, Rockville, MD 20852, 240-402-7500. You also may access the docket at https://www.regulations.gov for the annual reports of those FDA advisory committees that held closed meetings during fiscal year 2016. Insert the docket number found in brackets in the heading of this document at https://www.regulations.gov into the “Search” box, clear filter under Document Type (left side of screen), and check “Supporting and Related Material,” then Sort By Best Match (from the drop-down menu; top right side of screen), “ID Number (Z-A)” or Sort By Best Match (from the drop-down menu) “Title (A-Z),” also found in the heading of this document.

FOR FURTHER INFORMATION CONTACT: Michael Ortwerth, Director and Committee Management Officer, Advisory Committee and Oversight Management Staff, Food and Drug Administration, 10903 New Hampshire Ave., Silver Spring, MD 20993-0002, 301-796-8220.

SUPPLEMENTARY INFORMATION: Under section 10(d) of the Federal Advisory Committee Act (5 U.S.C. app.) and 21 CFR 14.60(d), FDA has filed with the Library of Congress the annual reports for the following FDA advisory committees that held closed meetings during the period October 1, 2015, through September 30, 2016:

Center for Biologics Evaluation and Research

Blood Products Advisory Committee

Vaccines and Related Biological Products Advisory Committee

National Center for Toxicological Research

Science Board to the National Center for Toxicological Research

Center for Drugs Evaluation and Research

Joint Meetings of the Anesthetic and Analgesic Drug Products Advisory Committee and the Drug Safety and Risk Management Advisory Committee

Annual Reports are available for public inspection between 9 a.m. and 4 p.m., Monday through Friday, at:

(1) The Library of Congress, Madison Building, Newspaper and Current Periodical Reading Room, 101 Independence Ave. SE., Rm. 133, Washington, DC; and

(2) Dockets Management Staff (HFA-305), Food and Drug Administration, 5630 Fishers Lane, Rm. 1061, Rockville, MD 20852.

Dated: June 27, 2017.
Anna K. Abram,
Deputy Commissioner for Policy, Planning, Legislation, and Analysis.

[FR Doc. 2017-13886 Filed 6-30-17; 8:45 am]

BILLING CODE 4164-01-P